DEPARTMENT OF ENERGY

Federal Energy Regulatory Commission

[Project No. 14808-001]

Merchant Hydro Developers, LLC; Notice of Surrender of Preliminary Permit

Take notice that Merchant Hydro Developers, LLC, permittee for the proposed Panther Pumped Storage Hydroelectric Project, has requested that its preliminary permit be terminated. The permit was issued on October 11, 2017, and would have expired on September 30, 2020.¹ The project would have been located near the town of Simpson in Lackawanna and Wayne Counties, Pennsylvania.

¹ 161 FERC 62,026 (2017).

The preliminary permit for Project No. 14808 will remain in effect until the close of business, January 26, 2018. But, if the Commission is closed on this day, then the permit remains in effect until the close of business on the next day in which the Commission is open.² New applications for this site may not be submitted until after the permit surrender is effective.

² 18 CFR 385.2007(a)(2) (2017).

Dated: December 27, 2017.
Nathaniel J. Davis, Sr.,
Deputy Secretary.

[FR Doc. 2017-28348 Filed 1-2-18; 8:45 am]

BILLING CODE 6717-01-P